DEPARTMENT OF LABOR

Proposed Information Collection Request (ICR) for the Workforce Investment Act Random Assignment Impact Evaluation of the Adult and Dislocated Worker Program; Comment Request

AGENCY: Employment and Training Administration (ETA), Labor.

ACTION: Notice.

SUMMARY: The Department of Labor (DOL or Department), as part of its continuing effort to reduce paperwork and respondent burden, conducts a preclearance consultation program to provide the general public and Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA, and displays a currently valid OMB control number, and the public is not required to respond to a collection of information unless it displays a currently valid OMB control number. Also, notwithstanding any other provisions of law, no person shall be subject to penalty for failing to comply with a collection of information if the collection of information does not display a currently valid OMB control number. See 5 CFR 1320.5(a) and 1320.6.

A copy of the proposed ICR can be obtained by contacting the office listed below in the addressee section of this notice or by accessing: http://www.doleta.gov/OMBCN/OMBControlNumber.cfm.

DATES: Written comments must be submitted to the office listed in the addressee section below on or before January 10, 2011.

ADDRESSES: Send comments to Eileen Pederson, U.S. Department of Labor, Employment and Training Administration, Office of Policy Development and Research, 200 Constitution Avenue, NW., Frances Perkins Bldg., Room N-5641, Washington, DC, 20210, telephone number (202) 693-3647 (this is not a toll-free number). Her e-mail address is Pederson.eileen@dol.gov and fax number is (202) 693-2766 (this is not a toll-free number).

SUPPLEMENTARY INFORMATION:

I. Background

In 1998, Congress significantly reformed the public workforce investment system by replacing the Job Training Partnership Act (JTPA) with the Workforce Investment Act (WIA). Key WIA reforms included consolidating the fragmented system of employment and training programs under JTPA and providing universal access to basic (core) services. To determine whether the adult and dislocated worker services funded by Title I of the WIA are effective, ETA is undertaking the WIA Random Assignment Impact Evaluation of the Adult and Dislocated Worker Programs. ETA has contracted with Mathematica Policy Research and its subcontractors —Social Policy Research Associates, MDRC, and the Corporation for a Skilled Workforce—to conduct this evaluation.

The evaluation will address the following research questions:

• Does access to WIA intensive and training services—both individually and combined—lead adults and dislocated workers to achieve better educational, employment, earnings, and self-sufficiency outcomes than they would achieve in the absence of access to those services?

• Does the effectiveness of WIA vary by population subgroup? Is there variation by sex, age, race/ethnicity, unemployment insurance (UI) receipt, education level, previous employment history, adult and dislocated worker status, and veteran and disability status?

• How does the implementation of WIA vary by Local Workforce Investment Area (LWIA)? Does the effectiveness of WIA vary by how it is implemented? To what extent do implementation differences explain variations in WIA's effectiveness?

• Do the benefits from WIA services exceed program costs? Do the benefits of intensive services exceed their costs? Do the benefits of training exceed its costs? Do the benefits exceed the costs for adults? Do they for dislocated workers?

To obtain rigorous, nationally representative estimates of WIA's effectiveness, the evaluation will take place in 30 randomly selected LWIAs. WIA applicants who are eligible for intensive services will be randomly assigned to one of three groups. The three research groups to which they will be assigned are: (1) The full-WIA group—adults and dislocated workers in this group can receive any WIA services for which they are eligible, (2) the core-and-intensive group—adults and dislocated workers in this group can receive any WIA services for which they are eligible other than training, and (3) the core-only group—adults and dislocated workers in this group can receive only WIA core services but no intensive or training services. Applicants who do not consent to participate in the study will be allowed to receive core services only. The sample intake period will be about 18 months at each site. A total of about 68,000 WIA adult and dislocated worker applicants will be randomly assigned to the evaluation. Data for the study will be collected from the following five major sources:

• 1. Study Enrollment Forms. Three forms will be used at intake to enroll participants into the study, a consent form, a baseline information form (BIF), and a contact information form (CIF). WIA adult and dislocated worker applicants will be asked to sign a consent form to confirm that they have been informed about the study and agree to participate. During the study enrollment process and after agreeing to participate in the study, information on each participant's basic demographic and socio-economic characteristics will be collected on a short BIF. In addition, contact information will be collected on the CIF.

• 2. Two Follow-Up Surveys. Follow-up telephone surveys will be conducted with 6,000 study participants. These will be conducted at about 15 and 30 months after random assignment. The first survey will collect baseline data that will not have changed since random assignment, such as place of birth. Both surveys will collect data on study participants' receipt of services and outcomes on attainment of education credentials, labor market outcomes, and family self-sufficiency.

• 3. WIA Service and Cost Data. To ensure that random assignment is being implemented correctly, as well as to collect data on the receipt of WIA services, data extracts from the State and/or local management information systems will be requested. If data on all services are not regularly collected in a site's specific management information system, then Mathematica will negotiate with that site to determine the best way to obtain basic service data, whether it is from another system, from modifications to their system, or from staff recording service provision in a study-specific system. Data on LWIA expenditures during the study period will be collected through quarterly reports that the LWIAs routinely submit to ETA. In addition, data on the costs of each service (for example, staff time and cost, cost of materials, overhead) will be collected through cost collection forms and interviews with program staff during the second site visit.

• 4. Administrative Data from Other Agencies and Programs. Both baseline (such as past earnings) and outcome data on quarterly earnings and UI benefits will be collected from records of state UI agencies. Data on service and benefit receipt may also be collected from the Employment Service, Social Security Administration, Temporary Assistance for Needy Families Program, and/or the Supplemental Nutrition Assistance Program.

• 5. Site Visits. Data on the context for the program and its implementation will be collected during two rounds of site visits to each of the 30 sites. The site visits will involve interviews with key staff, group interviews with study participants, observations of program activities, and case file reviews.

II. Desired Focus of Comments

Currently, the Department is soliciting comments concerning the above data collection for the WIA Random Assignment Impact Evaluation. Comments are requested to:

• Evaluate whether the proposed ICR is necessary for the proper performance of the functions of the agency, including whether the information will have practical utility;

• Evaluate the accuracy of the agency's estimate of the burden of the proposed ICR, including the validity of the methodology and assumptions used;

• Enhance the quality, utility, and clarity of the ICR; and

• Minimize the burden of the ICR on those who are to respond, including the use of appropriate automated, electronic, mechanical, or other technological collection techniques or other forms of information technology, e.g., permitting electronic submissions of responses.

III. Current Actions

At this time, ETA is requesting clearance for the three study enrollment forms (the consent form, the BIF, and the CIF) and the protocols for the site visits. A future request will be submitted for the follow-up surveys and the cost collection forms.

Type of review: New ICR.

OMB Number:

Affected Public: WIA Customers and Staff at 30 One-Stop Career Centers

Cite/Reference/Form/etc.: Workforce Investment Act Section 172.

For the study enrollment forms:

Frequency: One-time collection.

Total Responses: 68,000.

Average Time per Response: 13 minutes for study participants and 13 minutes per staff person per participant.

Estimated Total Burden Hours: 29,467 (= 14,733 for participants and 14,733 for staff)

Total Burden Cost: $379,383 (= $106,817 for participants and $272,567 for staff)

Note: Due to rounding, total burden amounts and cost amounts may differ from the sum of the component amounts.

For the site visits:

Frequency: Once for participants; twice for staff.

Total Responses: 240 responses for participants and 2,160 responses for staff (= twice per staff for 1,080 staff).

Average Time per Response: 60 minutes for participants and 60 minutes per staff for each response.

Estimated Total Burden Hours: 2,400 (= 240 for participants and 2,160 for staff).

Total Burden Cost: $41,700 (= $1,740 for participants and $39,960 for staff).

Note: Due to rounding, the numbers for the totals may differ from the sum of the component numbers.

Respondents | Total respondents | Frequency of collection | Average time per response (minutes) | Burden (hours) | Burden cost
Intake forms:
Study Participants | 68,000 | Once | 13 minutes | 14,733 | 106,817
Staff | 270 | Once | 13 minutes per customer, with an average of 252 customers per respondent | 14,733 | 272,567
Total for intake | 68,270 |  |  | 29,467 | 379,383
Site Visits:
Study Participants | 240 | Once | 60 minutes | 240 | 1,740
Staff | 1,080 | Twice | 60 minutes | 2,160 | 39,960
Total for site visits | 1,320 |  |  | 2,400 | $41,700
Total for Intake and Site Visits | 69,590 |  |  | 31,867 | $421,083
Note: Due to rounding, the numbers for the totals may differ from the sum of the component numbers.

The total burden cost for the enrollment forms represents 13 minutes, on average, for participant respondents to complete the study enrollment forms multiplied by the number of respondents (68,000) and by an estimated average hourly wage of $7.25 per hour, which is the current Federal minimum wage. Thus, the total participant burden for the completion of the enrollment forms is $106,817 (= 68,000 × 13/60 × 7.25). The projected burden for enrollment forms represents 13 minutes, on average, for each staff person to process documents for each study participant, including reviewing the participant's information, completing the counselor-only section, and data-entering the necessary information. (Each of an estimated 270 staff members will complete the forms for an average of 252 participants.) The total staff burden cost is $272,567, which is 13 minutes per participant multiplied by the number of respondents (68,000) and an average hourly wage of $18.50 per hour for staff (The hourly wage of $18.50 per hour for staff is the average wage in the range of wages found in “Managing Customers' Training Choices: Findings from the Individual Training Account Experiment,” a report prepared for the U.S. Department of Labor, Employment and Training Administration (December 2006), McConnell, Sheena, Elizabeth Stuart, Kenneth Fortson and others.). The total burden cost for the enrollment forms is $379,383, which is the sum of the burden costs for participants and staff.

The burden cost for site visits is 2,400 hours. The site visits will involve interviews with an average of four study participants during each of two visits to each of 30 sites. Hence, about 240 (= 4 × 2 × 30) participants will be involved in the interviews. Each interview will last about one hour. Hence, assuming a wage of $7.25 per hour, the total burden on participants for the site visits is estimated to be 240 hours with a total cost of $1,740 (= 7.25 × 240). About 36 staff persons will be interviewed at each of 30 sites. Hence, in total about 1,080 staff (= 36 × 30) will be interviewed. These staff will be interviewed for about one hour during each visit, for each of two visits. Hence, the total burden on staff for the site visits is estimated to 2,160 hours (= 1,080 × 2), representing a burden cost of $39,960 assuming an hourly wage for staff of $18.50 per hour. The total burden cost for the site visits is $41,700, which is the sum of the burden costs for participants and staff. The total burden is estimated to be 31,867 hours ($421,083 in burden cost), which is the sum of the burdens (and burden costs) for the enrollment forms and site visits.

Comments submitted in response to this request will be summarized and/or included in the request for OMB approval; they will also become a matter of public record.

Signed: at Washington, DC, this 29th day of October, 2010.
Jane Oates,
Assistant Secretary, Employment and Training Administration.

[FR Doc. 2010-28322 Filed 11-9-10; 8:45 am]

BILLING CODE 4510-FN-P